DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2010 Census Count Question Resolution (CQR) Program.

Form Number(s): D-18(L)CQR-1, D-18(L)CQR-1(S), D-18(L)CQR-A, D-18(L)CQR-B, D-18(L)CQR-C, D-18(L)CQR-D, D-18(L)CQR-E, D-18(L)CQR-F, D-18(L)CQR-G, D-18(L)CQR-H, D-18(L)CQR-I, D-18(L)CQR-J, D-2010B CQR, D-2010B CQR(S).

OMB Control Number: 0607-0879.

Type of Request: Reinstatement of a previously approved collection.

Burden Hours: 7,800.

Number of Respondents: 1,500.

Average Hours per Response: 5.2 hours.

Needs and Uses: The primary need for implementation of the CQR Program is to ensure a way for state, local and tribal area governments to challenge the accuracy of the counts of 2010 Census housing units and group quarters (GQs). The CQR Program is not a mechanism or process to challenge or revise the population counts sent to the President by December 31, 2010, which are used to apportion the U.S. House of Representatives. The Count Question Resolution (CQR) Program will process requests for corrections to the 2010 Census count of housing units and/or GQs based on three types of challenges (1) boundary, (2) geocoding, and (3) coverage. The Census Bureau will accept challenges between June 1, 2011, and June 1, 2013.

The Census Bureau will make all corrections on the basis of appropriate documentation provided by the challenging entities and through research of the official 2010 Census records by the Census Bureau. The Census Bureau will not collect additional data for the enumeration of living quarters through the CQR Program. The Census Bureau will respond to all challenges and will notify all affected governmental units of any corrections to their official counts as a result of a CQR Program decision.

Corrections made to the population and housing unit counts by this program will result in the issuance of new official 2010 Census counts to the officials of governmental units affected. These corrections may be used by the governmental units for future programs requiring official 2010 Census data, including requests for federal or state funding, grants, and other needs that are based on the population and/or housing and group quarters counts within a governmental unit. The Census Bureau will use these corrections to modify the decennial census file for use in annual postcensal estimates beginning in December 2012, and to create the errata information we will make available to the public on the Census Bureau's American FactFinder Web site at http://factfinder.census.gov.

The Census Bureau will issue an official 2010 Census CQR Program announcement in the Federal Register after we receive OMB approval to conduct the program. This announcement will provide full details to governmental entities wishing to participate in the 2010 CQR Program. Additionally, we will mail information about the CQR Program to the highest elected officials at all levels of state, Municipio, and Tribal area government in the United States and Puerto Rico.

Affected Public: State, Municipio, and Tribal area governments in the United States and Puerto Rico.

Frequency: One time.

Respondent's Obligation: Required to obtain a benefit.

Legal Authority: Title 13 U.S.C., Section 141.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: December 1, 2010.
Glenna Mickelson,
Management Analyst, Office of the Chief Information Officer.

[FR Doc. 2010-30446 Filed 12-3-10; 8:45 am]

BILLING CODE 3510-07-P